DEPARTMENT OF COMMERCE

National Oceanic and Atmospheric Administration

RIN 0648-XF412

Marine Mammals; File No. 20311

AGENCY: National Marine Fisheries Service (NMFS), National Oceanic and Atmospheric Administration (NOAA), Commerce.

ACTION: Notice; receipt of application.

SUMMARY: Notice is hereby given that the NMFS Pacific Islands Fisheries Science Center (PIFSC), 1845 Wasp Boulevard, Building 176, Honolulu, HI 96818 (Responsible Party: Dr. Evan Howell), has applied in due form for a permit to conduct scientific research on marine mammals.

DATES: Written, telefaxed, or email comments must be received on or before June 15, 2017.

ADDRESSES: The application and related documents are available for review by selecting “Records Open for Public Comment” from the “Features” box on the Applications and Permits for Protected Species (APPS) home page, https://apps.nmfs.noaa.gov, and then selecting File No. 20311 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Carrie Hubard or Sara Young, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

PIFSC request a five-year permit to permit to monitor the abundance, stock structure, distribution, movement patterns, and ecological relationships of cetaceans occurring in United States and international waters of the Pacific Islands Region. The study area includes the Hawaii archipelago, American Samoa, Guam, the Commonwealth of the Northern Mariana Islands, Kingman Reef, Palmyra Atoll, Johnston Atoll, Wake Atoll, Howland Island, Baker Island, and Jarvis Island. Up to 34 cetacean species may be targeted for research, including the following endangered or threatened species/stocks: Blue (Balaenoptera musculus), fin (B. physalus), sei (B. borealis), humpback (Megaptera novaeangliae), North Pacific right (Eubalaena japonica), sperm (Physeter macrocephalus), and main Hawaiian Insular false killer (Pseudorca crassidens) whales. Research activities include aerial surveys with the use of manned and unmanned aircraft systems, vessel surveys, behavioral observations, photo-identification, acoustic recordings, biological sample collection, and dart and suction cup tagging/telemetry studies. Please see the take table for numbers of animals requested by species.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: May 11, 2017.
Julia Harrison,
Chief, Permits and Conservation Division, Office of Protected Resources, National Marine Fisheries Service.

[FR Doc. 2017-09865 Filed 5-15-17; 8:45 am]

BILLING CODE 3510-22-P